ENVIRONMENTAL PROTECTION AGENCY

[FRL-7041-3]

Leaking Underground Storage Tank (LUST) Trust Fund Cooperative Agreements—USTfields Pilots; Announcement of Proposal Deadline for Request for Proposals for the Competition for USTfields Pilots

AGENCY: Environmental Protection Agency (EPA).

ACTION: Request for proposals; notice of deadline.

SUMMARY: EPA is accepting proposals for financial assistance for USTfields Pilots. “USTfields” are abandoned or underused industrial and commercial properties with real or perceived environmental contamination from petroleum from federally-regulated underground storage tanks (USTs). Up to half of the estimated 450,000 brownfields sites in the United States may contain abandoned underground storage tanks or be impacted by petroleum leaks from such tanks. However, petroleum contamination is generally excluded from coverage under the Comprehensive Environmental Response, Compensation, and Liability Act (CERCLA) and is not, therefore, covered under EPA's Brownfields program.

EPA's USTfields initiative is intended to bridge this gap and take advantage of the many advances in Brownfields work that could and should be applied to the numerous USTfields sites across the country. The USTfields initiative will accomplish this by selecting pilots intended to: help clean up abandoned or underused underground storage tank sites; demonstrate how federal, state, tribal, local, and private entities can combine their knowledge and resources to effectively address USTfields properties; take advantage of the expertise and existing infrastructure being used in similar EPA cleanup projects to maximize the use of available resources; and disseminate the lessons learned from these pilots.

EPA is inviting states (including the District of Columbia, the Commonwealth of Puerto Rico, the U.S. Virgin Islands, Guam, American Samoa, and the Commonwealth of the Northern Mariana Islands), federally-recognized Indian tribes, and eligible intertribal consortia to submit up to three proposals each to compete for these pilots. EPA expects to select up to 40 USTfields pilots in 2001. Each selected pilot will receive up to $100,000 in Leaking Underground Storage Tank (LUST) Trust Fund monies. These USTfields Pilots will be selected on a competitive basis. Detailed instructions and information on how to apply for these pilots, the eligibility requirements, the factors that will be used to evaluate the proposals, and a description of the evaluation process EPA will use can be found in The USTfields Initiative: Proposal Guidelines for USTfields Pilots (EPA 510-B-01-001, August 2001) and is available on EPA's website at www.epa.gov/oust and from other sources (see below). To assist state, tribal, and intertribal consortia applicants, EPA will conduct a series of regional conference calls. Please consult the same website for the schedule of these conference calls. Questions and answers from the conference calls will also be summarized and posted as soon as possible on this website.

DATES: The deadline for submitting proposals for the USTfields Pilots is October 22, 2001. All proposals must be postmarked by that date. States, tribes, and intertribal consortia must send their proposals to their respective EPA Regional office via registered or tracked mail. (EPA Regional office contact information is provided in the Proposal Guidelines.)

ADDRESSES: Besides obtaining the Proposal Guidelines on EPA's website at www.epa.gov/oust, interested persons can also obtain a copy by contacting their EPA Regional office or by calling the RCRA, Superfund, and EPCRA Call Center at the following numbers: Callers outside the Washington, DC metro area at 1-800-424-9346; callers in the Washington, DC metro area at (703) 412-9810; TDD for the hearing impaired at 1-800-553-7672.

FOR FURTHER INFORMATION CONTACT: Steven McNeely, EPA Office of Underground Storage Tanks (OUST) at (703) 603-7164, mcneely.steven@epa.gov, or Tim R. Smith, EPA OUST at (703) 603-7158, smith.timr@epa.gov.

SUPPLEMENTARY INFORMATION: EPA's goal is to select a broad array of USTfields Pilots that will serve as models for states, local areas, tribes, and U.S. territories. EPA anticipates that at least one USTfields Pilot will be awarded in each of its ten Regions. EPA also anticipates that at least one USTfields Pilot will be awarded for a pilot submitted by a tribal or intertribal consortium applicant. A preference will be given to applicants that have previously participated in an EPA cleanup program (e.g., Brownfields Assessment Demonstration Pilot or RCRA Brownfields Pilot). EPA reserves the right to reject all applications and make no awards.

The following is a summary of the evaluation criteria that will be used.

• Eligibility and Threshold Requirements is intended to gauge if the proposal is complete and otherwise meets the eligibility and threshold requirements for applicants and proposed properties and activities.

• Resource Use and Leveraging is intended to gauge how well a proposed project will utilize potential USTfields Pilot LUST Trust funds, including how it will leverage existing infrastructure.

• Community Involvement is intended to gauge how well a proposed pilot is supported by its community and the benefits to that community.

• Communication and Outreach is intended to gauge how well a proposed pilot will be able to convey “lessons learned” and the progress and results from conducting the project.

• Corrective Action Challenge is intended to gauge how well a proposed pilot will address the corrective action challenges.

• Project Planning and Schedule is intended to gauge how comprehensive the plans are for completing the proposed pilot and how soon the pilot will be completed.

Dated: August 13, 2001.
Michael Shapiro,
Acting Assistant Administrator,Office of Solid Waste and Emergency Response.

[FR Doc. 01-21336 Filed 8-22-01; 8:45 am]

BILLING CODE 6560-50-P